DEPARTMENT OF ENERGY

Federal Energy Regulatory Commission

[Docket No. IC13-3-000]

Commission Information Collection Activities (FERC-60, FERC-61, & FERC-555A); Comment Request

AGENCY: Federal Energy Regulatory Commission, Department of Energy.

ACTION: Comment request.

SUMMARY: In compliance with the requirements of the Paperwork Reduction Act of 1995, 44 U.S.C. 3507(a)(1)(D), the Federal Energy Regulatory Commission (Commission or FERC) is submitting the information collections [FERC-60 (Annual Report of Centralized Service Companies), FERC-61 (Narrative Description of Service Company Functions), and FERC-555A (Preservation of Records Companies and Service Companies Subject to PUHCA ¹)] to the Office of Management and Budget (OMB) for review of the information collection requirements. Any interested person may file comments directly with OMB and should address a copy of those comments to the Commission as explained below. The Commission issued a Notice in the Federal Register (70 FR 70996, 11/28/2012) requesting public comments. FERC received no comments on the FERC-60, FERC-61, & FERC-555A and is making this notation in its submittal to OMB.

¹ Public Utility Holding Company Act of 2005

DATES: Comments on the collection of information are due by March 13, 2013.

ADDRESSES: Comments filed with OMB, identified by the OMB Control No. 1902-0215, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-3-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-60 (Annual Report of Centralized Service Companies), FERC-61 (Narrative Description of Service Company Functions), and FERC-555A (Preservation of Records Companies and Service Companies Subject to PUHCA.

OMB Control No.: 1902-0215.

Type of Request: Three-year extension of the FERC-60, FERC-61, & FERC-555A information collection requirements with no changes to the reporting requirements.

Abstract: On August 8, 2005, the Energy Policy Act of 2005, was signed into law, repealing the Public Utility Holding Company Act of 1935 (PUHCA 1935) and enacting the Public Utility Holding Company Act of 2005 (PUHCA 2005). Section 1264 ² and Section 1275 ³ of PUHCA 2005 supplemented FERC's existing ratemaking authority under the Federal Power Act (FPA) to protect customers against improper cross-subsidization or encumbrances of public utility assets, and similarly, FERC's ratemaking authority under the Natural Gas Act (NGA). These provisions of PUHCA 2005 supplemented the FERC's broad authority under FPA Section 301 and NGA section 8 to obtain the books and records of regulated companies and any person that controls or is under the influence of such companies if relevant to jurisdictional activities.

² Federal Books and Records Access Provision

³ Non-Power Goods and Services Provision

FERC Form 60

Form No. 60 is an annual reporting requirement under 18 CFR 366.23 for centralized service companies. The report's function is to collect financial information (including balance sheet, assets, liabilities, billing and charges for associated and non-associated companies) from centralized service companies subject to the jurisdiction of the FERC. Unless Commission rule exempts or grants a waiver pursuant to 18 CFR 366.3 and 366.4 to the holding company system, every centralized service company in a holding company system must prepare and file electronically with the FERC the Form No. 60, pursuant to the General Instructions in the form.

FERC-61

FERC-61 is a filing requirement for service companies in holding company systems (including special purpose companies) that are currently exempt or granted a waiver of FERC's regulations and would not have to file FERC Form 60. Instead, those service companies are required to file, on an annual basis, a narrative description of the service company's functions during the prior calendar year (FERC-61). In complying, a holding company may make a single filing on behalf of all of its service company subsidiaries.

FERC-555A

FERC prescribed a mandated preservation of records requirements for holding companies and service companies (unless otherwise exempted by FERC). This requires them to maintain and make available to FERC, their books and records. The preservation of records requirement provides for uniform records retention by holding companies and centralized service companies subject to PUHCA 2005.

Data from the FERC Form 60, FERC-61, and FERC-555A provide a level of transparency that: (1) Helps protect ratepayers from pass-through of improper service company costs, (2) enables FERC to review and determine cost allocations (among holding company members) for certain non-power goods and services, (3) aids FERC in meeting its oversight and market monitoring obligations, and (4) benefits the public, both as ratepayers and investors. In addition, the FERC's audit staff used these records during compliance reviews and special analyses.

If data from the FERC Form 60, FERC-61, and FERC-555A were not available, FERC would not be able to meet its statutory responsibilities, under EPAct 1992, EPAct of 2005, and PUHCA 2005, and FERC would not have all of the regulatory mechanisms necessary to ensure customer protection.

Type of Respondents: Electric transmission facilities

Estimate of Annual Burden ⁴: The Commission estimates the total Public Reporting Burden for this information collection as:

⁴ Burden is defined as the total time, effort, or financial resources expended by persons to generate, maintain, retain, or disclose or provide information to or for a Federal agency. For further explanation of what is included in the information collection burden, reference 5 Code of Federal Regulations 1320.3.

FERC-60 (Annual Report of Centralized Service Companies), FERC-61 (Narrative Description of Service Company Functions), & FERC-555A (Preservation of Records Companies and Service Companies Subject to PUHCA)
| Number of respondents | Number of responses per respondent | Total number of responses | Average burden hours per response | Estimated total annual burden
| (A) | (B) | (A)×(B)=(C) | (D) | (C)×(D)
FERC-60 | 34 | 1 | 34 | 75 | 2,550
FERC-61 | 82 | 1 | 82 | 0.5 | 41
FERC-555A | 100 | 1 | 100 | 1,080 | 108,000
Total |  |  |  |  | 110,591

The total estimated annual cost burden to respondents is $4,735,093.16 [$306,000 (FERC Form 60) + $2,829.41 (FERC-61) + $4,426,263.75 (FERC-555A) = $4,735,093.16]

FERC Form 60: 2,550 hours * $120/hour = $306,000

FERC-61: 41 hours * $69.01/hour = $2,829.41

FERC-555A ⁵:

⁵ Internal analysis assumes 50% electronic and 50% paper storage

• Labor costs for paper storage: 108,000 hours * $19/hours ⁶ = $2,052,000

⁶ 2012 average hourly wage of filing clerk working within an electric utility

• Record Retention/storage cost for paper storage (using an estimate of 6,000 ft ³): $38,763.75

• Electronic record retention/storage cost: $2,335,500 [108,000 hours ÷ 2 = 54,000 * $28/hour ⁷ = $1,512,000; electronic record storage cost: 54,000 hours * $15.25/year ⁸ = $823,500; total electronic record storage: $2,335,500]

⁷ The Commission bases the $28/hour figure on a FERC staff study that included estimating public utility recordkeeping costs.

⁸ Per entity; the Commission bases this figure on the estimated cost to service and to store 1 GB of data (based on the aggregated cost of an IBM advanced data protection server).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 5, 2013.
Kimberly D. Bose,
Secretary.

[FR Doc. 2013-03009 Filed 2-8-13; 8:45 am]

BILLING CODE 6717-01-P